DEPARTMENT OF COMMERCE

National Institute of Standards and Technology

[Docket Number: 240305-0070]

Manufacturing USA Institute Competition: AI for Resilient Manufacturing

AGENCY: National Institute of Standards and Technology, Department of Commerce.

ACTION: Notice of Intent (NOI).

SUMMARY: The Office of Advanced Manufacturing within the National Institute of Standards and Technology, an agency of the U.S. Department of Commerce, intends to announce an open competition for a new Manufacturing USA institute. The expected competition will seek to establish a Manufacturing USA institute focused on the use of Artificial Intelligence to improve resilience of U.S. manufacturing. This NOI is provided to allow potential applicants sufficient time to develop meaningful collaborations among industry, academia, Federal laboratories and state/local government.

FOR FURTHER INFORMATION CONTACT: All inquiries may be directed to Ms. Cheryl Leonard via email to ManufacturingUSA@nist.gov or by phone at (301) 975-4350, with a subject line stating: `AI for Manufacturing Resilience.' NIST will respond to questions received with answers to Frequently Asked Questions (FAQs) posted on the NIST competition website at https://www.nist.gov/oam/funding-opportunities.

SUPPLEMENTARY INFORMATION:

Purpose. This Notice serves to announce the U.S. Department of Commerce's intention to initiate a competition to establish a new Manufacturing USA institute to strengthen U.S. industrial capabilities in advanced manufacturing sectors. The new institute will be sponsored by the Department of Commerce (DOC), through the National Institute of Standards and Technology (NIST). For this competition, NIST will solicit proposals for a Manufacturing USA institute to accelerate the use of artificial intelligence (AI) for resilient manufacturing.

NIST will broadly compete the new institute, allowing applicants to focus on the use of AI to improve resilience of manufacturing within industries and sectors of national interest. The Manufacturing USA authorizing statute includes in the definition of a Manufacturing USA institute that an institute has a predominant focus on a manufacturing process, novel, material, enabling technology, supply chain integration methodology or another relevant aspect of advanced manufacturing such as nanotechnology applications, advanced ceramics, photonics and optics, composites, biobased and advanced materials, flexible hybrid technologies, tool development for microelectronics, food manufacturing, superconductors, advanced battery technologies, robotics, advanced sensors, quantum information science, supply chain water optimization, aeronautics and advanced materials, and graphene and graphene commercialization.¹

¹ 15 U.S.C. 278s(d)(1)(B), as amended. https://uscode.house.gov/view.xhtml?req=(title:15%20section:278s%20edition:prelim).

The newly awarded AI institute will join a network of 17 existing Manufacturing USA institutes sponsored by the U.S. Departments of Defense, Energy, and Commerce.² NIST intends that the new institute will both contribute to and benefit from the expertise within the existing network of institutes. As required by the Manufacturing USA authorizing statute, NIST will ensure that the AI institute to be established will not substantially duplicate the work of the existing network of institutes.³

² www.manufacturingusa.com.

³ 15 U.S.C. 278s(e)(4)(A), as amended. https://uscode.house.gov/view.xhtml?req=(title:15%20section:278s%20edition:prelim).

The competition is expected to be announced in early Spring 2024 with a formal announcement on Grants.gov as well as on the NIST Office of Advanced Manufacturing website (www.nist.gov/oam) and Manufacturing USA website (https://www.manufacturingusa.com/).

Note that this NOI for an AI Manufacturing USA institute is separate from any planned solicitations for the Manufacturing USA semiconductor institute funded through the CHIPS Act ⁴ and is separate from NIST's U.S. AI Safety Institute (USAISI). Interested parties should monitor https://www.nist.gov/chips/chips-rd-funding-opportunities for information regarding CHIPS-funded semiconductor institutes, and https://www.nist.gov/artificial-intelligence/artificial-intelligence-safety-institute for updates on the USAISI.

⁴ Title XCIX—Creating Helpful Incentives to Produce Semiconductors for America of the William M. (Mac) Thornberry National Defense Authorization Act for Fiscal Year 2021 (Pub. L. 116-283, often referred to as the CHIPS Act).

Background

Program Background: The Manufacturing USA Program: Manufacturing USA exists to secure U.S. global leadership in advanced manufacturing. The nine federal agencies ⁵ participating in Manufacturing USA bring a whole-of-government approach to innovation, one that springboards U.S.-based inventions to the forefront of advanced manufacturing technologies, created and utilized by a skilled American workforce.

⁵ The federal agencies engaged in Manufacturing USA are the three sponsoring agencies, U.S. Departments of Commerce, Energy, and Defense, plus the Departments of Agriculture, Education, Health and Human Services, and Labor, NASA, and the National Science Foundation.

Each Manufacturing USA institute is a public-private partnership that brings together industry of all sizes, universities and community colleges, federal agencies, and state organizations to accelerate innovation by investing in industrially relevant pre-competitive advanced manufacturing technologies to advance specific technology sectors and develop the current and future workforce in those technologies. Manufacturing USA institutes are tasked to mature advanced manufacturing technologies from laboratory prototypes to industrial readiness, focusing on major industry challenges that can be addressed collaboratively but are generally beyond the reach of individual organizations. Institutes bridge the gap between basic research and commercial product development, provide shared assets allowing access to cutting-edge capabilities and equipment, and create accessible training resources to ensure that students and workers, including rural and underserved populations, have skills needed for careers in advanced manufacturing. Each Manufacturing USA institute also serves as a regional hub of manufacturing innovation, providing the innovation infrastructure to reinforce the competitiveness of the U.S. industrial base while strengthening our national and economic security.

Manufacturing USA institutes may address the full spectrum of advanced manufacturing challenges, such as innovation for manufacturing processes, novel materials, cross cutting enabling technology, supply chain integration methodology and education and workforce development. Manufacturing USA institutes' federal funding catalyzes co-investment from non-federal sources for institute projects, promoting stable and sustainable business models.

Competition Information

Upcoming Manufacturing USA AI Institute Competition: Adoption of AI in manufacturing has the potential to increase productivity and efficiency, increase worker safety, allow for predictive maintenance to reduce or eliminate factory floor downtime, improve quality control and reduce waste and defects. AI adoption has the potential for efficient utilization of other digital technologies in optimizing product design and process flow, and energy management. Furthermore, adoption of AI technologies will also positively impact manufacturing supply chain management and resilience and has potential for scalable implementation of workforce development for all. Through the planned competition, NIST expects to select an applicant team most capable of establishing and leading a Manufacturing USA institute to accelerate the use of AI for strengthening resilience of manufacturing processes for the nation's manufacturers. The resulting institute is expected to integrate expertise in AI, manufacturing and optimization of supply chain networks to strengthen the resilience of domestic manufacturing. The institute will conduct applied R&D projects and establish employer-led sectoral partnerships to develop accessible, effective, scalable training resources and credentialling pathways for the skilled workforce needed to move innovation into industrial practice. The work of the institute will also support the growth of an AI service provision infrastructure that will provide focused AI solutions to manufacturers by leveraging manufacturing data at national scale. Through these initiatives, the work of the institute will boost resilience to the benefit of individual companies and the overall U.S. manufacturing base. NIST anticipates that applicants for this upcoming funding opportunity will be permitted to choose an industrial sector of focus for the proposed institute, or to focus on cross-cutting tools that may be tailored for more than one industrial sector. Regardless of the applicant's choice, applicants will be required to define clear time-bounded deliverables and identify key partners needed to accomplish the work proposed and provide the non-federal co-investment that will be required to match the federal award (see Section 3 below). Applicants must also define the scope of the new institute to avoid substantive duplication with the existing network of Manufacturing USA institutes.

It is anticipated that the awardee selected from the upcoming competition will lead the institute partners in activities such as establishing a trusted manufacturing-centric AI data commons, developing standards for AI risk assessment tools, creating validated and interoperable AI manufacturing and/or supply chain network models, and building shared testbeds to support the integration between software and hardware needed for deployment by U.S manufacturers. The institute will also be expected to support market transition of institute-developed technologies, ultimately supporting technology maturation into scale-up and industry use and to facilitate AI-related education and workforce development partnerships and programs.

NIST expects the institute to achieve time-bound outcomes for technical applications that support manufacturing resilience, such as, but not limited to:

• Accelerating qualification of new production technologies, facilities, or processes;

• Performing predictive maintenance of structures and equipment to eliminate down-time due to equipment failure;

• Optimizing manufacturing processes to reduce resource inputs and quality failures;

• Optimizing working capital to predict inventory needs; and/or;

• Predicting and mitigating risks from manufacturing supply chain network disruptions stemming from factors such as extreme climate events, while increasing visibility of potential domestic suppliers.

NIST intends that applications will be evaluated for merit and for alignment with program purposes and statutory requirements according to the authorizing legislation for Manufacturing USA, 15 U.S.C. 278s, and in 42 U.S.C. 18971, Expanding opportunities through the Manufacturing USA Program and 42 U.S.C. 18972, Promoting domestic production of technologies developed under Manufacturing USA Program.

Award Information: The U.S. Government intends to enter into a five-year agreement with the possibility of a non-competitive extension for up to an additional two (2) years and provide federal funding of up to $70 million. This funding is to be matched or exceeded by funding from private industry and other non-federal sources, with a required minimum 1:1 cost share. To provide the public with an opportunity to learn more about the solicitation before submitting a proposal, NIST will host a webinar and at least one in-person Proposer's Day. The exact date and location for the webinar and Proposer's Day(s) will be confirmed upon the release of the solicitation, anticipated to occur in early Spring 2024. In addition, a preliminary high-level webinar following the release of this Notice of Intent is planned. NIST also expects to post and update answers to Frequently Asked Questions in support of this NOI and the future competition. Interested applicants should monitor https://NIST.gov/oam for updates.

Application Process: NIST plans to use a two-stage process for soliciting applications for this directed-topic Manufacturing USA institute. Concept Papers will be considered in the first stage of competition, and applicants submitting the most meritorious concepts will be invited to submit full proposals in the second stage of the competition. To limit burden on applicants and the Federal Government, only a single concept paper may be submitted from a lead applicant entity. However, entities may be partners on multiple proposals submitted. NIST anticipates that the due date for submission of concept papers will be a minimum of 45 days from the publication of the funding opportunity announcement.

In anticipation of the release of the funding opportunity, potential applicants are encouraged to complete the following preparations required for application submission:

• Ensure that your organization has a Unique Entity Identifier (UIE) with SAM.gov. The UIE has replaced the previous Dun and Bradstreet Data Universal Numbering System (DUNS) number. More information may be found at: https://sam.gov/content/entity-information.

• Register with the System for Award Management (SAM) at https://www.sam.gov. Designating an Electronic Business Point of Contact (EBiz POC) and obtaining a special password called an MPIN are important steps in SAM registration. Please update your SAM registration annually.

• Register for a Grants.gov (http://www.grants.gov/) account. It is advisable also to go to “manage subscriptions” on Grants.gov and sign up to receive automatic updates when Amendments to a NOFO are posted.

Disclaimer. This NOI does not constitute a solicitation. No applications may be submitted in response to this NOI. NIST will post a future announcement to Grants.gov that will provide the full requirements for applying for an assistance award. When published, information within the Notice of Funding Opportunity will supersede in its entirety any information provided by this Notice. Any inconsistency between information within this Notice and the expected Notice of Funding Opportunity announcing NIST's AI for Manufacturing Resilience award competition shall be resolved in favor of the Notice of Funding Opportunity.

Authority. Consolidated and Further Continuing Appropriations Act, 2015, Public Law 113-235, Title VII—Revitalize America Manufacturing Innovation Act of 2014, codified at 15 U.S.C. 278s, as amended.

Alicia Chambers,
NIST Executive Secretariat.

[FR Doc. 2024-05228 Filed 3-12-24; 8:45 am]

BILLING CODE 3510-13-P